DEPARTMENT OF DEFENSE

Office of the Secretary

[Transmittal No. 24-102]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-102, Policy Justification, and Sensitivity of Technology.

Dated: December 10, 2025.
Stephanie J. Bost,
Alternate OSD Federal Register Liaison Officer, Department of Defense.

BILLING CODE 6001-FR-P

BILLING CODE 6001-FR-C

Transmittal No. 24-102

Notice of Proposed Issuance of Letter of Offer Pursuant to Section 36(b)(1) of the Arms Export Control Act, as amended

(i) Prospective Purchaser: Government of Poland

(ii) Total Estimated Value:

Major Defense Equipment * | $2.00 billion
Other | $5.30 billion
TOTAL | $7.30 billion

Funding Source: Foreign Military Financing and National Funds

(iii) Description and Quantity or Quantities of Articles or Services under Consideration for Purchase:

Major Defense Equipment (MDE):

Fifty-eight (58) Improved Programmable Display Generators (48 installed, 10 spares)

Three (3) AGM-158 Joint Air-to-Surface Standoff Missile (JASSM) Flight Test Vehicles, Captive Carry

Three (3) Small Diameter Bomb II (SDB II), GBU53/B Guided Test Vehicles (GTV)

Eight (8) SDB II, GBU-53/B Captive Carry Reliability Trainers

Two (2) SDB I, GBU-39(T-1)/B GTV

Fifty-eight (58) Embedded Global Positioning System (GPS) Inertial Navigation Systems (INS) (EGI) with Selective Availability Anti-Spoofing Module (SAASM) or M-Code capability and Precise Positioning Service (48 installed, 10 spares)

Fifty-eight (58) AN/APG-83 Active Electronically Scanned Array (AESA) Scalable Agile Beam Radars (SABR) (48 installed, 10 spares)

Sixty (60) Modular Mission Computer (MMC) 7000AH upgrades, or equivalent (48 installed, 12 spares)

Sixty (60) Next Generation Mission Computer (XMC), or next generation equivalent (48 installed, 12 spares)

Seventy-three (73) AN/ALQ-257 Integrated Viper Electronic Warfare Suites (IVEWS), or seventy-three (73) AN/ALQ-254V(1) Viper Shield advanced electronic warfare (EW) suites, or equivalent (63 installed, 10 spares)

Two (2) AIM-9X Block II Sidewinder Special Air Training Missiles

Two (2) AIM-9X Block II Sidewinder Captive Air Training Missiles (CATM)

Non-Major Defense Equipment:

The following non-MDE items will also be included: major modifications and maintenance equipment; Phased Array Warning System (PAWS-2) missile warning systems; Joint Helmet Mounted Cueing Systems (JHMCS II); AN/ARC-238 radios (or equivalent); AN/APX-126/127 Advanced Identification Friend or Foe (AIFF) with combined interrogator/transponder (CIT) and Mode 5 (or equivalent); AN/ALE-47 Countermeasure Dispenser Systems (CMDS), classified countermeasure processors, sequencer switching units, and control display units; AN/ALQ-254V(1) Viper Shield advanced EW suites, including lab assets (or equivalent); KY-58, KIV-78, or equivalent, KGV-135A, AN/PYQ-10 Simple Key Loaders (SKLs), MS-110 reconnaissance pods, communications security (COMSEC) cables, and cryptographic devices; tactical synthetic aperture radars; Joint Mission Planning Systems (JMPS) with unique planning components and software; AGM-158 JASSM classified test equipment; aircraft components, parts, and accessories; spare parts, accessories and consumables, and repair and return support; classified and unclassified software delivery and support; classified and unclassified publications and technical documentation; studies and surveys; U.S. Government and contractor engineering, technical, and logistics support services; and other related elements of logistics and program support.

(iv) Military Department: Air Force (PL-D-QBF)

(v) Prior Related Cases, if any: PL-D-SAC, PL-D-QBC

(vi) Sales Commission, Fee, etc., Paid, Offered, or Agreed to be Paid: None known at this time

(vii) Sensitivity of Technology Contained in the Defense Article or Defense Services Proposed to be Sold: See Attached Annex

(viii) Date Report Delivered to Congress: October 23, 2024

* as defined in Section 47(6) of the Arms Export Control Act.

POLICY JUSTIFICATION

Poland—F-16 Viper Midlife Upgrade

The Government of Poland has requested to buy fifty-eight (58) Improved Programmable Display Generators (48 installed, 10 spares); three (3) AGM-158 Joint Air-to-Surface Standoff Missile (JASSM) Flight Test Vehicles, Captive Carry; three (3) Small Diameter Bomb II (SDB II), GBU53/B Guided Test Vehicles (GTV); eight (8) SDB II, GBU-53/B Captive Carry Reliability Trainers; two (2) SDB I, GBU-39(T-1)/B Guided Test Vehicles (GTV); fifty-eight (58) Embedded Global Positioning System (GPS) Inertial Navigation Systems (INS) (EGI) with Selective Availability Anti-Spoofing Module (SAASM) or M-Code capability and Precise Positioning Service (PPS) (48 installed, 10 spares); fifty-eight (58) AN/APG-83 Active Electronically Scanned Array (AESA) Scalable Agile Beam Radars (SABR) (48 installed, 10 spares); sixty (60) Modular Mission Computer (MMC) 7000AH upgrades, or equivalent (48 installed, 12 spares); sixty (60) Next Generation Mission Computer (XMC), or next generation equivalent (48 installed, 12 spares); seventy-three (73) AN/ALQ-257 Integrated Viper Electronic Warfare Suites (IVEWS), or seventy-three (73) AN/ALQ-254V(1) Viper Shield advanced electronic warfare (EW) suites, or equivalent (63 installed, 10 spares); two (2) AIM-9X Block II Sidewinder Special Air Training Missiles; and two (2) AIM-9X Block II Sidewinder Captive Air Training Missiles (CATM). The following non-MDE items will also be included: major modifications and maintenance equipment; Phased Array Warning System (PAWS-2) missile warning systems; Joint Helmet Mounted Cueing Systems (JHMCS II); AN/ARC-238 radios (or equivalent); AN/APX-126/127 Advanced Identification Friend or Foe (AIFF) with combined interrogator/transponder (CIT) and Mode 5 (or equivalent); AN/ALE-47 Countermeasure Dispenser Systems (CMDS), classified countermeasure processors, sequencer switching units, and control display units; AN/ALQ-254V(1) Viper Shield advanced EW suites, including lab assets (or equivalent); KY-58, KIV-78, or equivalent, KGV-135A, AN/PYQ-10 Simple Key Loaders (SKLs), MS-110 reconnaissance pods, communications security (COMSEC) cables, and cryptographic devices; tactical synthetic aperture radars; Joint Mission Planning Systems (JMPS) with unique planning components and software; AGM-158 JASSM classified test equipment; aircraft components, parts, and accessories; spare parts, accessories and consumables, and repair and return support; classified and unclassified software delivery and support; classified and unclassified publications and technical documentation; studies and surveys; U.S. Government and contractor engineering, technical, and logistics support services; and other related elements of logistics and program support. The estimated total cost is $7.30 billion.

This proposed sale will support the foreign policy goals and national security of the United States by improving the security of a NATO Ally that is a force for political and economic stability in Europe.

The proposed sale will allow Poland to modify and upgrade its existing F-16 aircraft to the new Viper configuration. The F-16 Viper Midlife Upgrade (MLU) will bolster Poland's air defense and surveillance capabilities, support national security, and strengthen Poland's defense and contributions to NATO. The Government of Poland already has the F-16 aircraft in its inventory and will have no difficulty absorbing this aircraft and services into its armed forces.

The proposed sale of this equipment and support will not alter the basic military balance in the region.

The principal contractor will be Lockheed Martin, located in Greenville, SC. The purchaser typically requests offsets. Any offset agreement will be defined in negotiations between the purchaser and the contractor.

Implementation of this proposed sale will not require the assignment of any additional U.S. Government or contractor representatives to Poland.

There will be no adverse impact on U.S. defense readiness as a result of this proposed sale.

Transmittal No. 24-102

Notice of Proposed Issuance of Letter of Offer Pursuant to Section 36(b)(1) of the Arms Export Control Act

Annex

Item No. vii

(vii) Sensitivity of Technology:

1. The Improved Programmable Display Generator and color multifunction displays utilize ruggedized commercial liquid crystal display technology that is designed to withstand the harsh environment found in modern fighter cockpits. The display generator is the fifth-generation graphics processor for the F-16.

2. The Embedded Global Positioning System/Inertial Navigation System (GPS/INS) (EGI) with Selective Availability Anti-Spoofing Module (SAASM)—or M-Code receiver when available—and Precise Positioning Service is a self-contained navigation system that provides the following: acceleration, velocity, position, attitude, platform azimuth, magnetic and true heading, altitude, body angular rates, time tags, and coordinated universal time (UTC) synchronized time. SAASM or M-Code enables the GPS receiver access to an encrypted P signal, providing protection against active spoofing attacks.

3. The AN/APG-83 Scalable Agile Beam Radar (SABR) is an Active Electronically Scanned Array (AESA) radar upgrade for the F-16. It includes higher processor power, higher transmission power, more sensitive receiver electronics, and synthetic aperture radar, which creates higher-resolution ground maps from a greater distance than existing mechanically scanned array radars.

4. The Modular Mission Computer (MMC) 7000A or AH is the central aircraft computer of the F-16. It serves as the hub for all aircraft subsystems and avionics data transfer. The Next Generation Mission Computer (XMC) will replace the MMC and resolve diminished manufacturing source issues.

5. The Integrated Viper Electronic Warfare (EW) Suite (IVEWS) provides passive radar warning, wide spectrum radio frequency (RF) jamming, and control and management of the entire EW system. This system is anticipated to be internal to the aircraft although mounted pod variants are used in certain circumstances.

6. PAWS-2 missile warning system is an infrared passive airborne warning system. The system detects, identifies, and tracks incoming missiles, alerts the aircrew with audio-visual warning signals, initiates timely ﬂare dispensing, and precisely cues directional infrared countermeasures (DIRCM).

7. Joint Helmet Mounted Cueing System II (JHMCS II) or Scorpion Hybrid Optical-based Inertial Tracker (HObIT) is a device used in aircraft to project information to the pilot's eyes and aids in tasks such as cueing weapons and aircraft sensors to air and ground targets. This system projects visual targeting and aircraft performance information on the back of the helmet's visor, enabling the pilot to monitor this information without interrupting his field of view through the cockpit canopy. This provides improvement for close combat targeting and engagement.

8. AN/ARC-238 radio with HAVE QUICK II and Second Generation Antijam Tactical Ultra High Frequency (UHF) Radio for NATO (SATURN) is a voice communications radio system which employs cryptographic technology. Other waveforms may be included as needed.

9. The AN/APX-126/127 Advanced Identification Friend or Foe (IFF) combined interrogator/transponder (CIT) is a system capable of transmitting and interrogating Mode 5. The AN/APX-127 is a form, fit, and function refresh of the AN/APX-126 and is the next generation to be produced.

10. The AN/ALE-47 Countermeasure Dispenser Set (CMDS) provides an integrated threat-adaptive, computer-controlled capability for dispensing chaff, flares, and active radio frequency expendables. The AN/ALE-47 uses threat data received over the aircraft interfaces to assess the threat situation and determine a response.

11. The KY-58 is a secure voice module primarily used to encrypt radio communication to and from military aircraft and other tactical vehicles.

12. The KIV-78 is a cryptographic appliqué for IFF. It can be loaded with Mode 5 classified elements.

13. The KGV-135A is a high-speed, general purpose encryptor/decryptor module used for wide-band data encryption.

14. The AN/PYQ-10 Simple Key Loader is a handheld device used for securely receiving, storing, and transferring data between compatible cryptographic and communications equipment.

15. The MS-110 reconnaissance pod is a multispectral airborne reconnaissance system. It greatly enhances airborne reconnaissance mission capabilities by providing a longer range and wider area of surveillance in contested and peacetime scenarios against peer and near-peer adversaries. The system's advanced imagery and multispectral capabilities detect targets with a higher degree of confidence, even through poor weather and atmospheric conditions, and may be rapidly disseminated via high-bandwidth datalink and ground intelligence-sharing architecture.

16. The Joint Mission Planning System (JMPS) is a multi-platform, PC-based mission planning system.

17. The highest level of classification of defense articles, components, and services included in this potential sale is SECRET.

18. If a technologically advanced adversary were to obtain knowledge of the specific hardware and software elements, the information could be used to develop countermeasures that might reduce weapon system effectiveness or be used in the development of a system with similar or advanced capabilities.

19. A determination has been made that Poland can provide substantially the same degree of protection for the sensitive technology being released as the U.S. Government. This sale is necessary in furtherance of the U.S. foreign policy and national security objectives outlined in the Policy Justification.

20. All defense articles and services listed in this transmittal have been authorized for release and export to the Government of Poland.

[FR Doc. 2025-22755 Filed 12-12-25; 8:45 am]

BILLING CODE 6001-FR-P